DEPARTMENT OF ENERGY

Federal Energy Regulatory Commission

Notice of Staff Attendance at North American Electric Reliability Corporation Meetings

The Federal Energy Regulatory Commission hereby gives notice that members of the Commission and/or Commission staff may attend the following meetings:

North American Electric Reliability Corporation Project 2022-04 EMT Modeling SAR Drafting Team Meeting

May 1, 2023 | 3:00 p.m.-5:00 p.m. Eastern

North American Electric Reliability Corporation System Planning Impacts from DERs Working Group (SPIDERWG) Meeting

May 2, 2023 | 1:00 p.m.-5:00 p.m. Eastern

May 3, 2023 | 1:00 p.m.-5:00 p.m. Eastern

North American Electric Reliability Corporation Member Representatives Committee Meeting

May 10, 2023 | 4:00 p.m.-6:00 p.m. Eastern

North American Electric Reliability Corporation Board of Trustees Meeting

May 11, 2023 | 10:00 a.m.-12:00 p.m. Mountain

Further information regarding these meetings may be found at: http://www.nerc.com/Pages/Calendar.aspx.

The discussions at the meetings, which are open to the public, may address matters at issue in the following Commission proceedings:

Docket Nos. | RD22-4-000 RD22-4-001 | Registration of Inverter-Based Resources.
| RD23-1-000 RD23-1-001 | Cold Weather Reliability Standards.

For further information, please contact Leigh Anne Faugust (202) 502-6396 or leigh.faugust@ferc.gov.

Dated: April 28, 2023.
Kimberly D. Bose,
Secretary.

[FR Doc. 2023-09488 Filed 5-3-23; 8:45 am]

BILLING CODE 6717-01-P